DEPARTMENT OF ENERGY

Federal Energy Regulatory Commission

Combined Notice of Filings #1

Take notice that the Commission received the following electric rate filings:

Docket Numbers: ER96-780-031; ER00-3240-021; ER01-1633-018; ER10-892-003.

Applicants: Oleander Power Project, L.P., Southern Company Services, Inc., Southern Company—Florida LLC, Southern Turner Cimarron I, LLC.

Description: Report of non-material change in status of Southern Companies and Southern Turner Cimarron I LLC.

Filed Date: 04/12/2011.

Accession Number: 20110412-5216.

Comment Date: 5 p.m. Eastern Time on Tuesday, May 3, 2011.

Docket Numbers: ER10-3125-001; ER10-3102-001; ER10-3100-001; ER10-3107-001; ER10-3109-001.

Applicants: Effingham County Power, LLC, Walton County Power, LLC, Washington County Power, LLC, AL Sandersville LLC, MPC Generating LLC.

Description: Notice of Non-Material Change in Status of AL Sandersville LLC, et. al. under ER10-3125, et al.

Filed Date: 04/13/2011.

Accession Number: 20110413-5069.

Comment Date: 5 p.m. Eastern Time on Wednesday, May 04, 2011.

Docket Numbers: ER10-3356-001.

Applicants: Entergy Arkansas, Inc.

Description: Entergy Arkansas, Inc. submits tariff filing per 35.17(b): West Memphis Corrected NITSA to be effective 1/1/2011.

Filed Date: 02/08/2011.

Accession Number: 20110208-5138.

Comment Date: 5 p.m. Eastern Time on Wednesday, April 20, 2011.

Docket Numbers: ER11-2724-000.

Applicants: Black Hills Colorado IPP, LLC.

Description: Supplemental Information of Black Hills Colorado IPP, LLC.

Filed Date: 04/05/2011.

Accession Number: 20110405-5110.

Comment Date: 5 p.m. Eastern Time on Tuesday, April 26, 2011.

Docket Numbers: ER11-2726-000.

Applicants: Black Hills Colorado IPP, LLC.

Description: Supplemental Information/Request of Black Hills Colorado IPP, LLC, and Black Hills/Colorado Electric Utility Company L.P.

Filed Date: 04/05/2011.

Accession Number: 20110405-5113.

Comment Date: 5 p.m. Eastern Time on Tuesday, April 26, 2011.

Docket Numbers: ER11-2962-001.

Applicants: Tropicana Manufacturing Company Inc.

Description: Amendment to Application of Tropicana Manufacturing Company, Inc. under ER11-2962.

Filed Date: 04/13/2011.

Accession Number: 20110413-5038.

Comment Date: 5 p.m. Eastern Time on Wednesday, May 4, 2011.

Docket Numbers: ER11-3333-000.

Applicants: NV Energy, Inc.

Description: NV Energy, Inc. submits tariff filing per 35.12: Service Agreement 11-00036 to be effective 1/21/2011.

Filed Date: 04/12/2011.

Accession Number: 20110412-5002.

Comment Date: 5 p.m. Eastern Time on Tuesday, May 3, 2011.

Docket Numbers: ER11-3334-000.

Applicants: ISO New England Inc.

Description: ISO New England Inc. submits tariff filing per 35.13(a)(2)(iii: Conforming Tariff Record—Exhibit 1D Billing Policy to be effective 5/1/2011.

Filed Date: 04/12/2011.

Accession Number: 20110412-5021.

Comment Date: 5 p.m. Eastern Time on Tuesday, May 3, 2011.

Docket Numbers: ER11-3335-000.

Applicants: KGen Murray I and II LLC.

Description: KGen Murray I and II LLC submits tariff filing per 35.15: Notice of Cancellation to be effective 4/13/2011.

Filed Date: 04/12/2011.

Accession Number: 20110412-5043.

Comment Date: 5 p.m. Eastern Time on Tuesday, May 3, 2011.

Docket Numbers: ER11-3336-000.

Applicants: Command Power Corp.

Description: Command Power Corp. submits tariff filing per 35.12: Initial Application for MBR to be effective 6/11/2011.

Filed Date: 04/12/2011.

Accession Number: 20110412-5094.

Comment Date: 5 p.m. Eastern Time on Tuesday, May 3, 2011.

Docket Numbers: ER11-3337-000.

Applicants: PJM Interconnection, L.L.C.

Description: PJM Interconnection, L.L.C. submits tariff filing per 35.13(a)(2)(iii: Previously approved revisions to the RAA Schedule 17—Parties to the RAA to be effective 2/14/2011.

Filed Date: 04/12/2011.

Accession Number: 20110412-5096.

Comment Date: 5 p.m. Eastern Time on Tuesday, May 3, 2011.

Docket Numbers: ER11-3338-000.

Applicants: Monmouth Energy, Inc.

Description: Monmouth Energy, Inc. submits tariff filing per 35.15: Market-Based Rate Tariff Cancellation to be effective 4/1/2011.

Filed Date: 04/12/2011.

Accession Number: 20110412-5112.

Comment Date: 5 p.m. Eastern Time on Tuesday, May 3, 2011.

Docket Numbers: ER11-3339-000.

Applicants: Freepoint Commodities, LLC.

Description: Freepoint Commodities, LLC submits tariff filing per 35.12: Freepoint Commodities LLC MBR Tariff to be effective 5/12/2011.

Filed Date: 04/12/2011.

Accession Number: 20110412-5121.

Comment Date: 5 p.m. Eastern Time on Tuesday, May 3, 2011.

Docket Numbers: ER11-3340-000.

Applicants: Interstate Power and Light Company.

Description: Interstate Power and Light Company submits tariff filing per 35.13(a)(2)(iii): IPL & OGWF—LBA Agreement to be effective 5/2/2011.

Filed Date: 04/12/2011.

Accession Number: 20110412-5150.

Comment Date: 5 p.m. Eastern Time on Tuesday, May 3, 2011.

Docket Numbers: ER11-3341-000.

Applicants: Entergy Arkansas, Inc.

Description: Entergy Arkansas, Inc. submits tariff filing per 35.13(a)(2)(iii): Dow Chemical Amended IOA to be effective 6/11/2011.

Filed Date: 04/12/2011.

Accession Number: 20110412-5157.

Comment Date: 5 p.m. Eastern Time on Tuesday, May 3, 2011.

Docket Numbers: ER11-3342-000.

Applicants: Dynasty Power Inc.

Description: Dynasty Power Inc. submits tariff filing per 35.12: Dynasty MBR Tariff to be effective 6/1/2011.

Filed Date: 04/12/2011.

Accession Number: 20110412-5202.

Comment Date: 5 p.m. Eastern Time on Tuesday, May 3, 2011.

Docket Numbers: ER11-3343-000.

Applicants: Public Service Company of New Mexico.

Description: Public Service Company of New Mexico submits tariff filing per 35: Revision to Attachment C and Attachment P to be effective 4/1/2011 under ER11-03343-000 Filing Type: 80.

Filed Date: 04/13/2011.

Accession Number: 20110413-5000.

Comment Date: 5 p.m. Eastern Time on Wednesday, May 4, 2011.

Take notice that the Commission received the following public utility holding company filings:

Docket Numbers: PH11-13-000.

Applicants: The GE Companies.

Description: Revised Form 65-A of The GE Companies under PH11-13.

Filed Date: 04/13/2011.

Accession Number: 20110413-5066.

Comment Date: 5 p.m. Eastern Time on Wednesday, May 4, 2011.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

As it relates to any qualifying facility filings, the notices of self-certification [or self-recertification] listed above do not institute a proceeding regarding qualifying facility status. A notice of self-certification [or self-recertification] simply provides notification that the entity making the filing has determined the facility named in the notice meets the applicable criteria to be a qualifying facility. Intervention and/or protest do not lie in dockets that are qualifying facility self-certifications or self-recertifications. Any person seeking to challenge such qualifying facility status may do so by filing a motion pursuant to 18 CFR 292.207(d)(iii). Intervention and protests may be filed in response to notices of qualifying facility dockets other than self-certifications and self-recertifications.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov or call (866) 208-3676 (toll free). For TTY, call (202) 502-8659.

Dated: April 13, 2011.
Nathaniel J. Davis, Sr.,
Deputy Secretary.

[FR Doc. 2011-9663 Filed 4-20-11; 8:45 am]

BILLING CODE 6717-01-P